NUCLEAR REGULATORY COMMISSION

[Docket No. 040-08838]

Notice of Consideration of Amendment Request for the Jefferson Proving Ground Site and Opportunity for a Hearing

The U.S. Nuclear Regulatory Commission (NRC) is considering issuance of a license amendment to Source Materials License SUB-1435 issued to the U.S. Army for the Jefferson Proving Ground site in Madison, IN. On September 22, 2003, NRC received a request from the Army for a license amendment that would create a 5-year renewable possession-only license. On October 21, 2003, NRC determined that the information provided by the Army was sufficient to begin a technical review. The technical review may identify omissions in the submitted information or technical issues not identified in the administrative acceptance review that require additional information.

If the NRC approves this request, the approval will be documented in a license amendment to NRC License SUB-1435. However, before approving the proposed amendment, the NRC will need to make the findings required by the Atomic Energy Act of 1954, as amended, and NRC's regulations. These findings will be documented in a safety evaluation report and either an environmental assessment or an environmental impact statement.

NRC hereby provides notice that this is a proceeding on an application for an amendment of a license falling within the scope of subpart L, “Informal Hearing Procedures for Adjudication in Materials Licensing Proceedings,” of NRC's rules of practice for domestic licensing proceedings in 10 CFR part 2. Pursuant to § 2.1205(a), any person whose interest may be affected by this proceeding may file a request for a hearing in accordance with § 2.1205(d). A request for a hearing must be filed within thirty (30) days of the date of publication of this Federal Register notice.

The request for a hearing must be filed with the Office of the Secretary by mail or facsimile (301-415-1101) addressed to: The Rulemaking and Adjudications Staff of the Office of the Secretary, U.S. Nuclear Regulatory Commission, Washington, DC 20555-0001 Attention: Rulemakings and Adjudications Staff; or by e-mail to hearingdocket@nrc.gov. The request may also be filed by personal delivery to the Rulemaking and Adjudications Staff at One White Flint North, 11555 Rockville Pike, Rockville, MD 20852, between 7:45 a.m. and 4:15 p.m. Federal workdays.

In accordance with 10 CFR 2.1205(f), each request for a hearing must also be served, by delivering it personally, or by mail, to:

1. The applicant, Department of the Army, U.S. Army Chemical Materials Agency, 5183 Blackhawk Road, Aberdeen Proving Ground, MD 21010-5424, Attention: Dr. John Ferriter, and,

2. The NRC staff, by delivery to the Office of the General Counsel, One White Flint North, 11555 Rockville Pike, Rockville, MD 20852, between 7:45 a.m. and 4:15 p.m. Federal workdays, or by mail, addressed to the Office of the General Counsel, U.S. Nuclear Regulatory Commission, Washington, DC 20555-0001. Because of the continuing disruptions in the delivery of mail to United States Government offices, it is requested that requests for hearing also be transmitted to the Office of the General Counsel, either by means of facsimile (301-415-3725), or by e-mail to OGCMailCenter@nrc.gov.

In addition to meeting other applicable requirements of 10 CFR Part 2 of NRC's regulations, a request for a hearing filed by a person other than an applicant must describe in detail:

1. The interest of the requester in the proceeding;

2. How that interest may be affected by the results of the proceeding, including the reasons why the requester should be permitted a hearing, with particular reference to the factors set out in § 2.1205(h);

3. The requester's areas of concern about the licensing activity that is the subject matter of the proceeding; and,

4. The circumstance establishing that the request for a hearing is timely in accordance with § 2.1205(d).

FOR FURTHER INFORMATION CONTACT: The application for the license amendment and supporting documentation are available for inspection and copying from the Publicly Available Records (PARS) component of NRC's document system (ADAMS) under accession number ML032731017. ADAMS is accessible from the NRC Web site at http://www.nrc.gov/NRC/ADAMS/index.html. Any questions with respect to this action should be referred to Tom McLaughlin, Decommissioning Branch, Division of Waste Management, Office of Nuclear Material Safety and Safeguards, U.S. Nuclear Regulatory Commission, Washington, DC 20555-0001.

Telephone: (301) 415-5869. Fax: (301) 415-5398.

Dated at Rockville, Maryland, this 21st day of October 2003.
For the Nuclear Regulatory Commission.
Tom McLaughlin,
Project Manager, Facilities Decommissioning Section, Decommissioning Branch, Division of Waste Management, Office of Nuclear Material Safety and Safeguards.

[FR Doc. 03-27134 Filed 10-27-03; 8:45 am]

BILLING CODE 7590-01-P